DEPARTMENT OF DEFENSE

Department of the Air Force

Notice of Intent To Prepare an Environmental Impact Statement for T-7a Recapitalization at Sheppard Air Force Base, Texas

AGENCY: Department of Defense, Department of the Air Force.

ACTION: Notice of intent.

SUMMARY: The Department of the Air Force (DAF) is issuing this Notice of Intent (NOI) to prepare an Environmental Impact Statement (EIS) to assess the potential social, economic, and environmental impacts associated with T-7A Recapitalization at Sheppard Air Force Base (AFB), Texas (DAF Unique Identification Number 00099). The EIS will analyze the potential impacts from introduction of T-7A aircraft and flight operations at Sheppard AFB and associated airspace; temporary changes to the number of personnel and dependents in the Sheppard AFB region; and the construction and upgrade of operations, support, and maintenance facilities.

DATES: A public scoping period of 30 days will take place starting from the date of publication of this NOI in the Federal Register. Comments will be accepted at any time during the environmental impact analysis process; however, to ensure DAF has sufficient time to consider public scoping comments during preparation of the Draft EIS, please submit comments within the 30-day scoping period. The Draft EIS is anticipated in mid-2025. The Final EIS and a decision on which alternative to implement is expected in late 2025.

DAF invites the public, stakeholders, and other interested parties to attend a public scoping meeting. Two, in-person public scoping meetings will be held from 4:00 to 7:00 p.m. on July 30th and 31st, 2024. Both meetings will be held in Cannedy Hall at the Wichita Falls Museum of Art at Midwestern State University (MSU) located on Eureka Circle on the MSU Campus, Wichita Falls, TX. The address is 2 Eureka Circle, Wichita Falls, TX 76308. Information provided at the meetings will be available on the project website (https://sheppard.t-7anepadocuments.com/). Attendees of the public scoping meeting will have the opportunity to submit written comments.

ADDRESSES: Scoping comments can be submitted via the project website (https://sheppard.t-7anepadocuments.com/), or via email to chinling.chen@us.af.mil or via postal mail to Ms. Chinling Chen, AFCEC/CIE; Attn: Sheppard AFB T-7A Recapitalization EIS; Headquarters AETC Public Affairs; 100 H. East Street, Suite 4; Randolph AFB, TX 78150. Please submit inquiries or requests for printed or digital copies of the scoping materials via the email or postal address above or contact the AETC Public Affairs office by phone at 210-652-4400. Scoping materials are also available in print at the Wichita Falls Public Library at 600 11th Street, Wichita Falls, Texas.

SUPPLEMENTARY INFORMATION: The purpose of the Proposed Action is to continue the T-7A recapitalization program to prepare pilots to operate modern fourth and fifth generation aircraft. The need for the Proposed Action is to provide infrastructure and training systems to support the newer T-7A aircraft, allow for enhanced and improved flight and simulator training, and ensure DAF pilot training requirements are met.

Recapitalization entails introduction of T-7A aircraft and flight operations at Sheppard AFB to replace all T-38C aircraft assigned to the installation; nighttime (between 10 p.m. and 7 a.m.) flight operations; temporary changes to the number of personnel and dependents in the Sheppard AFB region; and construction and upgrade of support and maintenance facilities. DAF is considering three alternatives to implement the Proposed Action and the No Action Alternative. For Alternative 1, Sheppard AFB would receive up to 108 T-7A aircraft and phase in T-7A operations at a level sustaining pilot training while simultaneously phasing out the T-38C. A temporary increase of approximately 100 personnel is projected. Several construction and renovation projects would potentially occur at Sheppard AFB to provide modern facilities and infrastructure to support T-7A aircraft maintenance, training, and operational requirements.

For Alternative 2, Sheppard AFB would receive up to 108 T-7A aircraft and perform T-7A operations at a level that is approximately 25 percent greater than Alternative 1. Alternative 2 is intended to cover a scenario in which, for either broad strategic or tactical operational reasons, DAF requires a surge or increase in pilot training operations above current plan. The number of T-7A aircraft arriving at Sheppard AFB and timeline of increased aircraft operations, new and renovated facilities, and personnel changes would be the same as described for Alternative 1. For Alternative 3, Sheppard AFB would receive up to 131 T-7A aircraft. Total T-7A annual operations would be approximately 22 percent greater than Alternative 1 once the aircraft transition is complete. Alternative 3 is intended to provide DAF with operational flexibility, and inclusion of this alternative in this EIS provides analysis to evaluate future capacity needs. The number of personnel and anticipated facility requirements would be the same for Alternatives 1, 2, and 3.

For the No Action Alternative, DAF would not implement T-7A recapitalization at Sheppard AFB. If the No Action Alternative were implemented, the T-7A aircraft disposition would be determined separately. Sheppard AFB's existing fleet of T-38C aircraft would continue to be used in their current capacity even though they will reach the end of their service lives within the next decade. Routine maintenance of facilities to support the continued use of T-38C aircraft under the No Action Alternative would continue to occur. No additional facility renovations or improvements supporting T-38C operations have been identified under the No Action Alternative.

DAF anticipates potential for increased air emissions, particularly nitrogen oxides, and changes in aircraft noise levels from the Proposed Action. Increased noise could have a disproportionate impact on environmental justice populations and impact off-installation land use compatibility. In addition, facilities and supporting structures improvement associated with the Proposed Action may impact floodplains. DAF will also consult with the United States Fish and Wildlife Service, the Texas Historical Commission, and Native American tribes to determine the potential for significant impacts. Consultation will be incorporated into the preparation of the EIS and will include, but not be limited to, consultation under Section 7 of the Endangered Species Act and consultation under Section 106 of the National Historic Preservation Act. At this time, the requirement for any permits or other authorizations has not been determined but will be addressed in the impact assessment as appropriate.

Scoping and Agency Coordination: To identify important environmental issues deserving of study and to deemphasize unimportant issues, narrowing the scope of the environmental impact statement process, DAF is soliciting comments from interested Federal, State, Tribal, and local, officials and agencies, as well as likely affected or interested members of the public. Comments are requested on alternatives and effects, as well as on relevant information, studies, or analyses with respect to the proposed action.

It is DoD Policy that DoD Components will to the maximum extent practicable avoid development, siting, or leasing of facilities or infrastructure within flood hazard areas. Consistent with the requirements and objectives of Executive Order (E.O.) 11988, “Floodplain Management,” as amended by E.O. 13690, “Establishing a Federal Flood Risk Management Standard and a Process for Further Soliciting and Considering Stakeholder Input,” state and federal regulatory agencies with special expertise in floodplains will be contacted to request comment. Consistent with E.O. 11988 and E.O. 13690, this Notice of Intent initiates public review of the proposed action and alternatives, which have the potential to be located in a floodplain.

Tommy W. Lee,
Acting Air Force Federal Register Liaison Officer.

[FR Doc. 2024-14605 Filed 7-2-24; 8:45 am]

BILLING CODE 3911-44-P